DEPARTMENT OF THE INTERIOR

National Park Service

30-Day Notice of Submission of Study Package to the Office of Management and Budget; Opportunity for Public Comment (OMB # 1024-0236)

AGENCY: Department of the Interior, National Park Service.

ACTION: Notice and request for comments.

SUMMARY: Under provisions of the Paperwork Reduction Act of 1995 [44 U.S.C. 3507(a)(1)(D)] and 5 CFR part 1320, Reporting and Record Keeping Requirements, the National Park Service (NPS) invites public comments on a revision of a currently approved collection of information (OMB # 1024-0236). The 30-Day Federal Register Notice for this collection of information that was published on June 26, 2007 (Volume 72, Number 122, Pages 35065-35066), was published in error and should be recognized as an incorrect version. The correct publication of the 30-Day Federal Register Notice for this collection of information was published on June 25, 2007 (Volume 72, Number 121, Pages 34722-34723), and should be recognized as the correct version. If you have any questions or concerns regarding this matter, please contact Mr. Leonard E. Stowe, NPS, Information Collection Clearance Officer, 1849 C St., NW. (2605), Washington, DC 20240; or via e-mail at leonard_stowe@nps.gov.

Dated: July 9, 2007.
Leonard E. Stowe,
NPS, Information Collection Clearance Officer.

[FR Doc. 07-3448 Filed 7-13-07; 8:45 am]

BILLING CODE 4312-53-M